DEPARTMENT OF THE TREASURY

United States Mint

Notification of American Eagle Gold Proof and Silver Proof and Uncirculated Coin Price Increase

Summary: The United States Mint is establishing prices for its 2007 American Eagle Gold and Silver Coins.

Pursuant to the authority that 31 U.S.C. 5111(a)(3) and 5112(e), (f), & (i) grant the Secretary of the Treasury to mint and issue gold and silver coins, and to prepare and distribute numismatic items, the United States Mint mints and issues American Eagle Gold Proof Coins in four denominations with the following weights: one-ounce, one-half ounce, one-quarter ounce, and one-tenth ounce. The United States Mint also produces a four-coin set that contains one coin of each denomination. In addition, the United States Mint produces American Eagle Silver Proof and Uncirculated coins with one ounce of silver in each coin. In accordance with 31 U.S.C. 9701(b)(2)(B), the United States Mint is changing the price of these coins to reflect the increase in value of the underlying precious metal content of the coins—the result of increases in the market price of gold and silver.

Accordingly, effective February 1, 2007, the United States Mint will commence selling the following 2007 American Eagle gold and silver coins according to the following price schedule:

Description | Price
Gold Coins:
One-ounce gold proof coin | $789.95
One-half ounce gold proof coin | 399.95
One-quarter ounce gold proof coin | 209.95
One-tenth ounce gold proof coin | 104.95
Four-coin gold proof set | 1,449.95
Silver Coins:
One-ounce silver proof coin | 29.95
One-ounce silver uncirculated coin | 21.95

For Further Information Contact: Gloria C. Eskridge, Associate Director for Sales and Marketing; United States Mint; 801 Ninth Street, NW., Washington, DC 20220; or call 202-354-7500.

Authority: 31 U.S.C. 5111, 5112 & 9701.

Dated: January 30, 2007.
Edmund C. Moy,
Director, United States Mint.

[FR Doc. E7-1757 Filed 2-2-07; 8:45 am]

BILLING CODE 4810-02-P